FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Capability Assessment for Readiness (CAR).

Type of Information Collection: Reinstatement with change of previously approved collection for which approval has expired.

OMB Number: 3067-0272.

Abstract: The CAR is needed by FEMA to determine that current capabilities of the States to respond to major disasters and emergencies. It is also an essential means of reporting to the United States Congress and the President on the degree to which States, as primary recipients of FEMA grants, are capable of performing their emergency management responsibilities. The CAR provides a mechanism to evaluate the effectiveness of FEMA programs that are designed to help States attain a high level of achievement in mitigation, preparedness response and recovery programs. It can be used by States for: (1) Developing strategic planning initiatives; (2) producing annual work plans for Federal grants based on areas requiring improvement that are identified in the CAR; (3) providing a basis for budget submissions to State legislatures; and (4) modifying CAR to establish an instrument to assess the capabilities of local jurisdictions.

Affected Public: State, Local or Tribal Government.

Number of Respondents: 56.

Estimated Time per Respondent: 60 hours.

Estimated Total Annual Burden Hours: 3,360 hours.

Frequency of Response: Biennially.

COMMENTS: Interested persons are invited to submit written comments on the proposed information collection to the Desk Officer for the Federal Emergency Management Agency, Office of Information and Regulatory Affairs, Office of Management and Budget, Washington, DC 20503 on or before March 8, 2000.

FOR FURTHER INFORMATION CONTACT: Requests for additional information or copies of the information collection should be made to Muriel B. Anderson, FEMA Information Collections Officer, Federal Emergency Management Agency, 500 C Street, SW, Room 316, Washington, DC 20472. Telephone number (202) 646-2625. FAX number (202) 646-3524 or email muriel.anderson@fema.gov.

Dated: January 28, 2000.
Muriel B. Anderson,
Acting Director, Program Services Division, Operations Support Directorate.

[FR Doc. 00-2666 Filed 2-4-00; 8:45 am]

BILLING CODE 6718-01-P